DEPARTMENT OF ENERGY

Federal Energy Regulatory Commission

[Docket No. EC05-105-000, et al.]

La Paloma Acquisition Co, LLC, et al.; Electric Rate and Corporate Filings

July 20, 2005.

The following filings have been made with the Commission. The filings are listed in ascending order within each docket classification.

1. La Paloma Acquisition Co, LLC and Morgan Stanley & Co., Incorporated

[Docket No. EC05-105-000]

Take notice that on July 15, 2005, La Paloma Acquisition Co, LLC (Acquisition Co) and Morgan Stanley & Co., Incorporated (MS&Co.) submitted an application pursuant to section 203 of the Federal Power Act for authorization for an indirect disposition of jurisdictional facilities resulting from a proposed transfer of ownership or control of up to 20 percent equity interests in Acquisition Co from CEH/La Paloma Holding Company, LLC to MS&Co. At the time of the proposed transaction, Acquisition Co will own 100 percent membership interest in La Paloma Generating Company, LLC which owns a 1,040 megawatt generator located near McKittrick, California and certain associated interconnection facilities that connect the generator to the Pacific Gas & Electric Company transmission system.

Comment Date: 5 p.m. eastern time on August 5, 2005.

2. Calpine Energy Services, L.P.

[Docket No. EC05-106-000]

Take notice that on July 15, 2005, Calpine Energy Services, L.P. submitted an application pursuant to section 203 of the Federal Power Act for authorization of a disposition of jurisdictional facilities in connection with the assignment of a power purchase agreement.

Comment Date: 5 p.m. eastern time on August 5, 2005.

3. Energy Factors, Incorporated, AG-Energy, Inc., AG-Energy, L.P., Power City Generating, Inc., Power City Partners, L.P, and Alliance Energy, New York LLC

[Docket No. EC05-107-000]

Take notice that on July 15, 2005, Energy Factors, Incorporated (Energy Factors), AG-Energy, Inc., AG-Energy, L.P., Power City Generating, Inc., Power City Partners, L.P, and Alliance Energy, New York LLC (Alliance Energy and, together, the Applicants) submitted an application pursuant to section 203 of the Federal Power Act for authorization of a disposition of jurisdictional facilities whereby Alliance Energy would acquire all of the interests in AG-Energy, L.P. and Power City Partners, L.P. directly and indirectly owned by Energy Factors (transaction). The Applicants state that the transaction would be accomplished pursuant to a Purchase and Sale Agreement between Alliance Energy and Energy Factors, certain portions of which the Applicants request be treated as confidential.

Comment Date: 5 p.m. eastern time on August 5, 2005.

4. Vienna Power LLC

[Docket No. EG05-88-000]

On July 18, 2005, Vienna Power LLC (Vienna) filed with the Federal Energy Regulatory Commission an application for redetermination of exempt wholesale generator status pursuant to section 32 of the Public Utility Holding Company Act of 1935 and Part 365 of the Commission's regulations.

Vienna states that it is a limited liability company that is engaged either directly or indirectly and exclusively in the business of owning and operating an approximately 170 MW oil-fired electric generation facility located in Maryland.

Comment Date: 5 p.m. eastern time on August 8, 2005.

Standard Paragraph

Any person desiring to intervene or to protest in any of the above proceedings must file in accordance with Rules 211 and 214 of the Commission's Rules of Practice and Procedure (19 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to long on and submit the intervention or protests.

Persons unable to file electronically should submit an original and 14 copies of the intervention or protests to the Federal Energy Regulatory Commission, 888 First Street, NE., Washington, DC 20426.

The filings in the above proceedings are accessible in the Commission's eLibrary system by clicking on the appropriate link in the above list. They are also available to review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TYY, call (202) 502-8659.

Linda Mitry,
Deputy Secretary.

[FR Doc. E5-4022 Filed 7-27-05; 8:45 am]

BILLING CODE 6717-01-P